DEPARTMENT OF COMMERCE

National Oceanic and Atmospheric Administration

50 CFR Part 229

[Docket No. 010103003-1003-01, I.D. 083000B]

RIN 0648-AN92

List of Fisheries for 2001

AGENCY: National Marine Fisheries Service (NMFS), National Oceanic and Atmospheric Administration (NOAA), Commerce.

ACTION: Notice of proposed rulemaking.

SUMMARY: The National Marine Fisheries Service (NMFS) proposes changes for 2001 to the List of Fisheries (LOF) as required by the Marine Mammal Protection Act (MMPA). The proposed LOF for 2001 reflects new information on interactions between commercial fisheries and marine mammals. Under the MMPA, NMFS must place a commercial fishery on the LOF into one of three categories based upon the level of serious injury and mortality of marine mammals that occurs incidental to that fishery. The categorization of a fishery in the LOF determines whether participants in that fishery are subject to certain provisions of the MMPA, such as registration, observer coverage, and take reduction plan requirements.

DATES: Comments must be received by March 8, 2001.

ADDRESSES: Send comments to Chief, Marine Mammal Division, Attn: List of Fisheries, Office of Protected Resources, NMFS, 1315 East-West Highway, Silver Spring, MD 20910.

Comments regarding the burden-hour estimates or any other aspect of the collection of information requirements contained in this proposed rule should be sent to the Chief, Marine Mammal Division, Office of Protected Resources, NMFS, 1315 East-West Highway, Silver Spring, MD 20910 and to the Office of Information and Regulatory Affairs, OMB, Attention: NOAA Desk Officer, Washington, DC 20503.

Registration information and materials and marine mammal reporting forms may be obtained from the following regional offices:

NMFS, Northeast Region, One Blackburn Drive, Gloucester, MA 01930-2298, Attn: Sandra Arvilla.

NMFS, Southeast Region, 9721 Executive Center Drive North, St. Petersburg, FL 33702, Attn: Teletha Griffin.

NMFS, Southwest Region, Protected Species Management Division, 501 W. Ocean Blvd., Suite 4200, Long Beach, CA 90802-4213, Attn: Don Peterson.

NMFS, Northwest Region, 7600 Sand Point Way NE, Seattle, WA 98115, Attn: Permits Office.

NMFS, Alaska Region, Protected Resources, P.O. Box 22668, 709 West 9th Street, Juneau, AK 99802.

FOR FURTHER INFORMATION CONTACT: Emily Hanson, Office of Protected Resources, 301-713-2322 ext. 101; Kim Thounhurst, Northeast Region, 978-281-9138; Diane Borggaard, Southeast Region, 727-570-5312; Tim Price, Southwest Region, 562-980-4029; Brent Norberg, Northwest Region, 206-526-6733; Michael Payne, Alaska Region, 907-586-7642. Individuals who use a telecommunications device for the deaf may call the Federal Information Relay Service at 1-800-877-8339 between 8 a.m. and 4 p.m. Eastern time, Monday through Friday, excluding Federal holidays.

SUPPLEMENTARY INFORMATION:

What Is the List of Fisheries?

Under section 118 of the MMPA, NMFS must publish, at least annually, an LOF that places all U.S. commercial fisheries into one of three categories based on the level of incidental serious injury and mortality of marine mammals that occurs in each fishery. The categorization of a fishery in the LOF determines whether participants in that fishery may be required to comply with certain provisions of the MMPA, such as registration, observer coverage, and take reduction plan requirements.

How Does NMFS Determine In Which Category a Fishery is Placed?

The definitions for the fishery classification criteria can be found in the implementing regulations for section 118 of the MMPA (50 CFR part 229). In addition, these definitions are summarized in the preambles to the final rule implementing section 118 (60 FR 45086, August 30, 1995), the final LOF for 1996 (60 FR 67063, December 28, 1995), and the proposed LOF for 1999 (63 FR 42803, August 11, 1998). These criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the Potential Biological Removal (PBR) level for each marine mammal stock. The PBR level is defined in 50 CFR 229.2 to mean the maximum number of animals, not including natural mortalities, that may be removed from a marine mammal stock while allowing that stock to reach or maintain its optimum sustainable population.

Tier 1: If the total annual mortality and serious injury across all fisheries that interact with a stock is less than or equal to 10 percent of the PBR level of this stock, all fisheries interacting with this stock would be placed in Category III. Otherwise, these fisheries are subject to the next tier of analysis to determine their classification.

Tier 2, Category II: Annual mortality and serious injury of a stock in a given fishery is greater than or equal to 50 percent of the PBR level.

Tier 2, Category II: Annual mortality and serious injury of a stock in a given fishery is greater than 1 percent and less than 50 percent of the PBR level.

Tier 2, Category III: Annual mortality and serious injury of a stock in a given fishery is less than or equal to 1 percent of the PBR level.

Tier 1, therefore, considers the cumulative fishery mortality and serious injury for a particular stock, while Tier 2 considers fishery-specific mortality for a particular stock. Additional details regarding how threshold percentages between the categories were determined are provided in the preamble to the final rule implementing section 118 of the MMPA (60 FR 45086, August 30, 1995).

How Do I Find Out if a Specific Fishery is in Category I, II, or III?

This proposed rule includes two tables that list all U.S. commercial fisheries by LOF Category. Table 2 lists all of the fisheries in the Pacific Ocean (including Alaska). Table 3 lists all of the fisheries in the Atlantic Ocean, Gulf of Mexico, and Caribbean.

How Do I Register?

Owners of vessels or gear engaging in a Category I or II fishery, are required under 50 CFR 229.4 to obtain a marine mammal authorization. You must register through a NMFS Regional Offices (see ADDRESSES) unless you participate in a fishery that has an integrated registration program. Upon receipt of a completed registration, NMFS will issue vessel or gear owners a decal to display on their vessels and an authorization certificate that must be in the possession of the operator while fishing. The procedures and fees associated with registration differ between Regions.

For some fisheries, NMFS has integrated the MMPA registration process with existing state and Federal fishery license, registration, or permit systems and related programs. Participants in these fisheries are automatically registered under the MMPA and are not required to pay the $25 registration fee.

Which Fisheries Have Integrated Registration Programs?

The following fisheries have integrated registration programs under the MMPA: All Alaska Category II fisheries; all Washington and Oregon Category II fisheries; and three Atlantic fisheries (the Gulf of Maine, U.S. mid-Atlantic lobster fishery, the Atlantic squid, mackerel, butterfish trawl fishery, and the Northeast sink gillnet fishery). Special procedures and instructions for registration in these integrated fisheries are described in the preamble to the final LOF for 1998 (63 FR 5748, February 4, 1998).

How Do I Renew My Registration Under the MMPA?

The Regional Offices annually send renewal packets to participants in Category I or II fisheries that have previously registered; however, it is your responsibility to ensure that registration or renewal forms are submitted to NMFS at least 30 days in advance of fishing. If you have not received a renewal packet by January 1, or are registering for the first time, request a registration form from the appropriate Regional Office (see ADDRESSES).

Am I Required to Submit Reports When I Injure or Kill a Marine Mammal During the Course of Commercial Fishing Operations?

Any vessel owner or operator, or fisher (in the case of non-vessel fisheries), participating in a Category I, II, or III fishery must comply with 50 CFR 229.6 and report all incidental injuries or mortalities of marine mammals that occur during commercial fishing operations to NMFS. “Injury” is defined in 50 CFR 229.2 as a wound or other physical harm. In addition, any animal that ingests fishing gear, or any animal that is released with fishing gear entangling, trailing, or perforating any part of the body is considered injured and must be reported. Instructions on how to submit reports can be found in 50 CFR 229.6.

Am I Required to Take an Observer Aboard My Vessel?

Fishers participating in a Category I or II fishery are required to accommodate an observer onboard your vessel(s) upon request. Observer requirements can be found in 50 CFR 229.7.

Am I Required to Comply With Any Take Reduction Plan Regulations?

Fishers participating in a Category I or II fishery are required to comply with any applicable take reduction plans. NMFS may develop and implement take reduction plans for any Category I or II fishery that interacts with a strategic stock.

Sources of Information Reviewed for the Proposed 2001 LOF

NMFS reviewed the marine mammal incidental serious injury and mortality information presented in the Stock Assessment Reports (SARs) for all observed fisheries to determine whether proposed changes in fishery classification were warranted. NMFS also reviewed other sources of new information, including marine mammal strandings data, observer program data, fisher self-reports, and other information that is not included in the SARs.

NMFS’ SARs provide the best available information on both the level of serious injury and mortality of marine mammals that occurs incidental to commercial fisheries and the PBR levels for marine mammal stocks. The information contained in the SARs is reviewed by regional scientific review groups (SRGs) representing Alaska, the Pacific coast (including Hawaii), and the Atlantic coast (including the Gulf of Mexico). The SRGs were created by the MMPA to review the science that goes into the stock assessment reports and advise NMFS on population status and trends, uncertainties in the science, research needs, and other issues.

The proposed LOF for 2001 is based on information provided in the final SARs for 1996 (63 FR 60, January 2, 1998), the final SARs for 1999 (65 FR 12514, March 9, 2000), and the draft SARs for 2000 (65 FR 31520, May 18, 2000). The final SARs for 1999 and draft SARs for 2000 provide new estimates of total serious injury and mortality of marine mammals that occur incidental to some U.S. commercial fisheries and provide new estimates of PBR levels for some marine mammal stocks. If information in the 2000 draft SARs changes as a result of public comments or additional review by the Scientific Review Groups, these updates will be incorporated in the final LOF for 2001.

Changes Resulting From New Draft SARs

Tables 2 and 3 list all U.S. commercial fisheries, the number of participants in each fishery, and the marine mammal stocks and/or species incidentally killed or injured in each fishery. Information in Table 2 was updated to include the following changes in the final 1999 Atlantic and Gulf of Mexico SARs and draft 2000 Atlantic and Gulf of Mexico SARs:

1. The Northern Gulf of Mexico stock of dwarf sperm whales was designated as non-strategic.

2. The Northern Gulf of Mexico stock of pygmy sperm whales was designated as non-strategic.

3. The Western North Atlantic stock of Atlantic spotted dolphin was designated as non-strategic.

4. The Western North Atlantic stock of pantropical spotted dolphin was designated as non-strategic.

5. The Western North Atlantic stock of dwarf sperm whales was designated as non-strategic.

6. The Western North Atlantic stock of long-finned pilot whales is proposed to be designated as strategic.

The 1999 final Pacific SARs included updates to include new information on fishery mortality, fisher self-reporting, and stranding data through 1997, resulting in revisions to 11 stocks, but no changes to the status of any Pacific stocks. The draft 2000 Pacific SARs included a complete set of revised stock assessments for Pacific marine mammal stocks under NMFS jurisdiction, including the following changes in status:

1. The California/Oregon/Washington stock of short-finned pilot whales is proposed to be designated as non-strategic;

2. The Central California stock of harbor porpoise is proposed to be designated as strategic; and

3. The Hawaii stock of false killer whales is proposed to be designated as strategic.

The final 1999 Alaska SARs and draft 2000 Alaska SARs provided updates to the number of participants in each Alaska commercial fishery, and to the list of species and/or stocks incidentally injured or killed in each fishery. When possible, the number of participants in Alaska fisheries provided in Table 3 in the LOF reflects the number of permits fished in 1999. For those fisheries for which this information was not available, the number of permits issued in 1999 or the number of permits fished or issued in prior years were used to represent the number of participants. The new information did not change the status of any of the Alaska stocks.

Proposed Changes to the 2001 LOF

NMFS is proposing specific changes to the LOF that would take effect in 2001. With the exception of the proposed changes, NMFS will retain the fishery classifications as published in the final LOF for 1999 (64 FR 9067, February 24, 1999), and which continued to be effective in 2000 (65 FR 24448, April 26, 2000). NMFS solicits comments on the proposed changes and should be advised of any fishery that is not included in the LOF. As a result of comments or information received after the publication of the proposed 2001 LOF, NMFS may redefine existing fishery definitions, recategorize fisheries, or add and delete fisheries from this list for the final 2001 LOF.

This proposed LOF addresses commercial fisheries only, but NMFS is currently working with the Atlantic States Marine Fisheries Commission and states, partly at the request of the Mid-Atlantic Harbor Porpoise Take Reduction Team, to look for ways to quantify and address recreational fisheries and marine mammal interactions. NMFS solicits comments on distinguishing between the commercial and recreational fishing sectors when analyzing marine mammal strandings that display evidence of fishery interactions.

Table 1 has been added to the LOF to provide a summary of fisheries for which changes are proposed and to identify the type of change. The first column identifies the fishery as listed in the existing List of Fisheries, the middle column shows the proposed change, and the third column lists how the fishery is listed in the proposed 2001 LOF. The category of each fishery is indicated in parenthesis. A more detailed discussion of the change made to each fishery follows in the text, organized by the type of change. Updates to the number of participants and to the marine mammal species and stocks incidentally injured and killed are not included in this table. Changes not reflected in Table 1 were either made directly to Tables 2 or 3 or are discussed in the “Other Proposed Changes or Clarifications to the LOF” section.

Table 1—Summary of Changes Proposed for the 2001 List of Fisheries
Fishery Listing in the 2000 List of Fisheries | Proposed Change | Fishery Listing in Proposed 2001 List of Fisheries
Commercial Fisheries in the Pacific Ocean
AK Clam Hand Shovel (III) | Reorganized | AK Clam (III); AK Clam Mechanical/ Hydraulic (III)
AK Octopus/Squid “Other” (III) | Renamed | AK Squid/Pot (III)
AK Southeast Alaska Herring Food/Bait Pound Net (III) | Renamed | AK Southeast Herring Roe/Food/Bait Pound Net (III)
AK Southern Bering Sea, Aleutian Islands, and Western Gulf of Alaska Sablefish Longline/Set Line (federally regulated Waters) (III); AK State Waters Sablefish Longline/Set Line (III); AK Miscellaneous Finfish/Groundfish Longline/Set Line (III) | Reorganized | AK Bering Sea, Aleutian Islands Groundfish Longline/Set Line (federally Regulated Waters, including miscellaneous finfish and sablefish) (III); AK Gulf of Alaska Groundfish Longline/Set Line (federally regulated waters, including miscellaneous finfish and sablefish) (III); AK State-Managed Waters, Groundfish Longline/Set Line (including sablefish, rockfish, and miscellaneous finfish) (III)
Southeast AK Salmon Drift Gillnet (II) | Renamed | AK Southeast Salmon Drift Gillnet (II)
Hawaii Swordfish, Tuna, Billfish, Mahi Mahi, Wahoo, Oceanic Sharks Longline/Set Line (III) | Recategorized | Hawaii Swordfish, Tuna, Billfish, Mahi Mahi, Wahoo, Oceanic Sharks Longline/Set Line (II)
N/A | Added | AK Herring Spawn on Kelp Pound Net (III)
N/A | Added | AK Snail Pot (III)
N/A | Added | California Longline (II)
Commercial Fisheries in the Atlantic Ocean, Gulf of Mexico, and Caribbean
Atlantic Ocean, Gulf of Mexico Blue Crab Trap/Pot (III) | Reorganized and Recategorized | Atlantic Blue Crab Trap/Pot (II); Gulf of Mexico Blue Crab Trap/Pot (II); Northeast Trap/Pot (II)
Atlantic Ocean, Caribbean, Gulf of Mexico Large Pelagics Drift Gillnet (I) | Removed | N/A
Atlantic Squid, Mackerel, Butterfish Trawl (II) | Recategorized | Atlantic Squid, Mackerel, Butterfish Trawl (I)
Bluefish, Croaker, Flounder Trawl Fishery (III) | Reorganized | Mid-Atlantic Mixed Species Trawl Fishery (III)
Gulf of Maine Small Pelagics Surface Gillnet (II) | Renamed | Northeast Anchored Pelagic Gillnet (II)
Gulf of Maine, Southeast U.S. Atlantic Coastal Shad, Sturgeon Gillnet (III) | Reorganized and Recategorized | Southeast Atlantic Gillnet (II); Northeast Sink Gillnet (I); Northeast Anchored Pelagic Gillnet (II); Northeast Drift Gillnet (II)
Gulf of Maine/U.S. Mid-Atlantic Lobster Trap/Pot (I) | Renamed | Northeast/Mid-Atlantic American Lobster Trap/Pot (I)
Gulf of Maine, U.S. Mid-Atlantic Mixed Species Trap/Pot (III) | Reorganized and Recategorized | Northeast Trap/Pot (II); Mid-Atlantic Mixed Species Trap/Pot (III)
Gulf of Mexico Inshore Gillnet (III) Gulf of Mexico Coastal Gillnet (III); Gulf of Mexico King and Spanish Mackerel Gillnet (III) | Reorganized and Recategorized | Gulf of Mexico Gillnet (II)
Mid-Atlantic Coastal Gillnet (II) | Recategorized | Mid-Atlantic Coastal Gillnet (I)
Mid-Atlantic Haul Seine (II) | Reorganized and Renamed | North Carolina Long Haul Seine (II); Mid-Atlantic Haul/Beach Seine (II)
U.S. Mid-Atlantic Mixed Species Stop/Seine/Weir (III) | Renamed | U.S. Mid-Atlantic Mixed Species Stop Seine/Weir (except the North Carolina Roe Mullet Stop Net) (III)
Mid-Atlantic, Southeastern U.S. Atlantic, Gulf of Mexico Shrimp Trawl (III) | Renamed | Southeastern U.S. Atlantic, Gulf of Mexico Shrimp/Trawl Fishery (III)
North Carolina Inshore Gillnet (III) | Recategorized | North Carolina Inshore Gillnet (II)
Southeastern U.S. Atlantic, Caribbean Haul Seine (III); Caribbean Beach Seine (III) | Reorganized and Renamed | Southeastern U.S. Atlantic Haul/Beach Seine (III); Caribbean Haul/Beach Seine (III)
All Southeastern Atlantic Gillnet Fisheries (except for Category II Shark Gillnet); Florida East Coast King and Spanish Mackerel Gillnet (III) | Reorganized and Recategorized | Southeast Atlantic Gillnet (II)
Southeastern U.S. Atlantic, Gulf of Mexico Snapper-Grouper and Other Reef Fish Bottom Longline/Hook-and-Line(III) | Renamed | Southeastern U.S. Atlantic, Gulf of Mexico, and Caribbean Snapper-Grouper and Other Reef Fish Bottom Longline/Hook-and-Line(III)
Southeastern U.S. Atlantic, Gulf of Mexico, Caribbean Spiny Lobster Trap/Pot(III) | Reorganized | Florida Spiny Lobster Trap/Pot (III); Caribbean Spiny Lobster Trap/Pot(III)
N/A | Added | Caribbean Gillnet (III)
N/A | Added | Caribbean Mixed Species Trap/Pot (III)
N/A | Added | Gulf of Mexico Haul/Beach Seine (III)
N/A | Added | Gulf of Mexico Mixed Species Trap/Pot (III)
N/A | Added | Gulf of Mexico Mixed Species Trawl (III)
| Added | Gulf of Mexico, Southeast Atlantic, Mid-Atlantic, and Caribbean Cast Net (III)
N/A | Added | Mid-Atlantic Pound Net (II)
N/A | Added | North Carolina Long Haul Seine (II)
N/A | Added | Northeast Drift Gillnet (II)
N/A | Added | Northeast Trap/Pot (II)
N/A | Added | Southeastern U.S. Atlantic, Gulf of Mexico Golden Crab Trap/Pot (III)
N/A | Added | Southeastern U.S. Atlantic, Gulf of Mexico Stone Crab Trap/Pot (III)

Fisheries Elevated to Category I

Atlantic Squid, Mackerel, Butterfish Trawl Fishery

NMFS proposes to elevate the Atlantic Squid, Mackerel, Butterfish Trawl Fishery to Category I as justified by the following tier analysis. Marine mammal species and stocks incidentally injured and killed by the Atlantic Squid, Mackerel, Butterfish Fishery during the 1996-1998 period include: common dolphin (WNA stock), white-sided dolphin (WNA stock), and Globicephala, sp. (includes long-finned and/or short-finned pilot whales)(WNA stock).

Tier 1 Evaluation: The NMFS Sea Sampling program recorded takes of pilot whales (WNA stock), Atlantic white-sided dolphins (WNA stock), and common dolphins (WNA stock) between 1996-1998. According to data presented in the draft 2000 SAR, annual serious injury and mortality across all fisheries for the pilot whale, white-sided dolphin, and common dolphin stocks exceeds 10 percent of the PBR level (78, 184, and 107, respectively). Therefore, this fishery is subject to Tier 2 analysis.

Tier 2 Evaluation: Bycatch analysis for this fishery during the 1996-1998 period is reported in the draft 2000 SAR. The analysis resulted in an estimated average mortality rate for this fishery of 43 pilot whales and 367 common dolphins per year, which is greater than 50 percent of the PBR level for both stocks. Therefore, this fishery is proposed to be elevated to Category I.

Mid-Atlantic Coastal Gillnet Fishery

NMFS proposes to elevate the Mid-Atlantic Coastal Gillnet fishery to Category I based on new observer bycatch information about bottlenose dolphins (WNA coastal stock) presented in the draft 2000 SAR. The geographic boundaries of the Mid-Atlantic Coastal Gillnet Fishery would be maintained. This fishery includes all gillnet fishing that is south of Long Island, landward of the 72°30' W. line, and north of a line extending due east from the North Carolina/South Carolina border. However, the Mid-Atlantic Coastal Gillnet Fishery would not include the Category III inshore gillnet fisheries, which are not changed on the LOF.

Marine mammal species and stocks incidentally injured and killed in the Mid-Atlantic Coastal Gillnet Fishery include: bottlenose dolphin (WNA coastal stock), harbor porpoise (Gulf of Maine/Bay of Fundy stock), harbor seal (WNA stock), harp seal (WNA stock), humpback whale (undetermined North Atlantic stock), minke whale, (WNA stock), Globicephala, sp. (includes long-finned and/or short-finned pilot whales) (WNA stock), white-sided dolphin (WNA stock), and common dolphin (WNA stock).

The tier analysis justifying this change follows:

Tier 1 Evaluation: The NMFS Sea Sampling program has documented takes of coastal bottlenose dolphins in the Mid-Atlantic Coastal Gillnet Fishery. Incidental mortality and serious injury of bottlenose dolphin (WNA coastal stock) across all fisheries exceeds 10 percent of the PBR level (25). Therefore, this fishery is subject to Tier 2 analysis.

Tier 2 Evaluation: The draft 2000 SAR reports that the total annual estimated average fishery-related mortality or serious injury to bottlenose dolphin (WNA coastal stock) by mid-Atlantic coastal gillnets during 1994-1998 was 45.8 bottlenose dolphins, which is greater than 50 percent of the PBR level (25) for this stock. Therefore, NMFS proposes to elevate this fishery to Category I.

Fisheries Elevated to Category II

Atlantic Blue Crab Trap/Pot Fishery

NMFS proposes to rename the Atlantic portion of the Category III Atlantic Ocean, Gulf of Mexico Blue Crab Trap/Pot Fishery the Atlantic Blue Crab Trap/Pot Fishery and elevate the fishery to Category II based on a review of fishery interaction data from bottlenose dolphin strandings in the southeastern Atlantic. The geographic range of this fishery would extend from 72°30' W. longitude south from Long Island to Florida’s Atlantic coast. The blue crab is distributed along the entire East Coast. However, data suggest that significant fishing effort does not occur north of 72°30' W. longitude. This northern boundary would also encompass most of the distribution of coastal bottlenose dolphins along the East Coast. Any blue crab pot effort north of 72°30' W. longitude would be included in the Northeast Trap/Pot Fishery.

The marine mammal species and stocks incidentally injured and killed include the bottlenose dolphin (WNA coastal stock) and West Indian manatee (FL stock). NMFS is presently evaluating this fishery to determine the number of participants, although historic numbers indicate that there may be at least 16,000 participants in this fishery. NMFS will also consider registration options for this fishery that will minimize the registration burden on fishers. The tier analysis justifying this change follows:

Tier 1 Evaluation: Incidental mortality and serious injury of bottlenose dolphins (WNA coastal stock) across all fisheries is greater than 10 percent of the PBR level (25), therefore this fishery is subject to Tier 2 analysis.

Tier 2 Evaluation: Between 1994 and 1998, 22 bottlenose dolphin carcasses (4.4 dolphins per year on average) recovered by the Stranding Network between North Carolina and Florida’s Atlantic coast displayed evidence of possible interaction with a trap/pot fishery (i.e., rope and/or pots attached, or rope marks). Additionally, although not included in the analysis, at least two dolphins were reported to be released alive (condition unknown) from blue crab traps/pots during this time period.

Given that other sources of annual serious injury and mortality estimates (e.g., observer data) related to the Atlantic Blue Crab Trap/Pot Fishery are unavailable, the stranding data (4.4 bottlenose dolphins per year) were used as a minimum estimate of annual serious injury and mortality. Therefore, bottlenose dolphin (WNA coastal stock) mortality and serious injury from the Atlantic Blue Crab Trap/Pot Fishery is estimated to be between 1 percent and 50 percent of the PBR level (25), warranting placement of this fishery in Category II.

Gulf of Mexico Blue Crab Trap/Pot Fishery

NMFS proposes to rename the Gulf of Mexico portion of the Category III Atlantic Ocean, Gulf of Mexico Blue Crab Trap/Pot Fishery to the Gulf of Mexico Blue Crab Trap/Pot Fishery and elevate this fishery to Category II based on a review of fishery interaction data from bottlenose dolphin strandings in the Gulf of Mexico. The marine mammal species and stocks incidentally injured and killed include the bottlenose dolphin (Western, Eastern, and Northern Gulf of Mexico stocks and Gulf of Mexico Bay, Sound, and Estuarine stock), and West Indian manatee (FL stock). There are approximately 4,113 commercial blue crab fishers in the Gulf of Mexico. NMFS will consider registration options for this fishery that will minimize the registration burden on fishers. The tier analysis justifying this change follows:

Tier 1 Evaluation: As noted in the tier analysis for the Gulf of Mexico gillnet fishery, total annual mortality and serious injury of bottlenose dolphin (Gulf of Mexico Bay, Sound, and Estuarine stock) exceeds 10 percent of the PBR level (39.7), and, therefore, the Gulf of Mexico Blue Crab Trap/Pot Fishery is subject to Tier 2 analysis.

Tier 2 Evaluation: Between 1994 and 1998, seven bottlenose dolphin carcasses (1.4 dolphins per year on average) recovered by the Gulf of Mexico stranding network displayed evidence of possible interaction with a trap/pot fishery (i.e., rope and/or pots attached, or rope marks). Additionally, although not included in the analysis, at least 1 dolphin was reported to be released alive (condition unknown) from a blue crab trap/pot in the Gulf of Mexico during this time period.

Because the Gulf of Mexico Blue Trap/Pot Fishery occurs predominantly in inshore waters, NMFS combined the PBR of the tentative Gulf of Mexico Bay, Sound and Estuarine stocks from Florida’s Gulf coast to the Mississippi River mouth (39.5).

Given that other sources of annual serious injury and mortality estimates (e.g., observer data) related to the Gulf of Mexico Blue Crab Trap/Pot Fishery are unavailable, the stranding data (0.8 bottlenose dolphins per year) were used as a minimum estimate of annual serious injury and mortality. Therefore, bottlenose dolphin mortality and serious injury from the Gulf of Mexico Blue Trap/Pot Fishery is estimated to be between 1 percent and 50 percent of the PBR level (39.7) for bottlenose dolphins (Gulf of Mexico Bay, Sound, and Estuarine stock), placing this fishery in Category II.

Gulf of Mexico Gillnet Fishery

NMFS proposes to combine the Gulf of Mexico Inshore Gillnet Fishery, the Gulf of Mexico Coastal Gillnet Fishery, and the Gulf of Mexico King and Spanish Mackerel Gillnet Fishery into a new Gulf of Mexico Gillnet Fishery. The COLREGS line¹ is presently used to divide the Gulf of Mexico Inshore Gillnet Fisheries (i.e., fisheries occurring in bays, sounds, or estuaries) from the Gulf of Mexico Coastal Gillnet Fisheries, but NMFS has learned that similar gillnet fisheries occur both inside and outside of the COLREGS line. Therefore, NMFS proposes to combine these fisheries in the LOF for clarity. The Gulf of Mexico Gillnet Fishery has 734 participants.

¹ As defined in 33 CFR part 80, COLREGS demarcation lines delineate those waters upon which mariners shall comply with the International Regulations for Preventing Collisions at Sea, 1972 (72 COLREGS) and those water upon which mariners shall comply with the Inland Navigation Rules. The waters inside of the lines are Inland Rules waters. The waters outside the lines are COLREGS waters. COLREGS demarcation lines are depicted or noted on nautical charts published by NOAA (Coast Charts 1:80,000 scale) and described in 33 CFR part 80.

Based on analogy with other gillnet fisheries, the Atlantic Scientific Review Group (ASRG) recommendation that NMFS elevate all gillnet fisheries to at least Category II (unless evidence to the contrary is available), a NOAA memo indicating that stranding data substantially underestimate human related mortality levels (August 6, 1999, NOAA Memo from R. Merrick and S. Swartz to D. Wieting), and the actual stranding data presented in the following tier analysis, NMFS is proposing to elevate the Gulf of Mexico Gillnet Fisheries to Category II. The species and stocks incidentally injured and killed include bottlenose dolphin (Gulf of Mexico Western, Northern, and Eastern Coastal Stocks and the Gulf of Mexico Bay, Sound and Estuarine Stock).

Tier 1 Evaluation: The Gulf of Mexico Menhaden Purse Seine Fishery, a Category II fishery, has documented interactions with coastal stocks of bottlenose dolphin, which exceed 10 percent of the combined PBR level (154) for the Western, Northern and Eastern coastal bottlenose dolphin stocks. Therefore the Gulf of Mexico Coastal Gillnet Fishery is subject to Tier 2 analysis.

For the Gulf of Mexico Bay, Sound and Estuarine Stock of bottlenose dolphin (which was not affected by the menhaden purse seine fishery and thus not part of the previous tier analysis), the total annual mortality and serious injury exceeds 10 percent of the PBR level (39.7). Therefore, the Gulf of Mexico Inshore Gillnet Fishery is also subject to Tier 2 analysis and data on this fishery will be combined with the coastal gillnet fishery for the Tier 2 analysis on the Gulf of Mexico gillnet fishery.

Tier 2 Evaluation: Between 1994 and 1998, the stranding network in the Gulf of Mexico recovered 35 bottlenose dolphins that died as a result of fishery interactions. Of these, up to 10 carcasses showed evidence of gillnet interactions (i.e., attached gillnet and net marks): one in the eastern Gulf of Mexico, eight in the northern Gulf of Mexico, and one in the western Gulf of Mexico, for an average of two bottlenose dolphin mortalities recovered by the U.S. stranding network per year with evidence of gillnet interactions.

Conclusive stock structure information on bottlenose dolphins in the Gulf of Mexico is not yet available, so currently NMFS is generally unable to identify from which stock stranded bottlenose dolphin originate. To take this uncertainty into consideration, NMFS combined the PBR levels across the Gulf of Mexico Western (29), Northern (35), and Eastern (90) coastal stocks (total PBR level of 154) and the Gulf of Mexico Bay, Sound and Estuarine stock (39.7) for a total PBR level in the Gulf of Mexico of 193.7.

Given that the Gulf of Mexico Gillnet Fisheries have not been observed to date, the stranding data (two bottlenose dolphins per year) were used as a minimum estimate of annual serious injury and mortality. Therefore, bottlenose dolphin mortality and serious injury from these fisheries is estimated to be between 1 percent and 50 percent of the PBR level (193.7), placing this fishery in Category II. As noted in the August 6, 1999, NOAA Memo from R. Merrick and S. Swartz to D. Wieting, it is believed that true mortality rates are higher than what stranding data indicate.

Preliminary breakdown by area and stock for bottlenose dolphin found in bays, sounds, and estuaries (i.e., inside the COLREGS line) supports a Category II classification for at least one of the areas/stocks. For example, in the Bay Boudreau and Mississippi Sound (Block B02-05, 29, 31), one dead dolphin was recovered by the southeast U.S. stranding network on average per year with evidence of a gillnet interaction. Annual serious injury and mortality related to the inshore gillnet fishery for this stock is between 1 percent and 50 percent of the PBR level (13).

Most stranded animals used in the analyses with evidence of gillnet interactions occurred in the northern Gulf of Mexico. Net bans in state waters off of Florida and Texas may explain why most stranded animals with evidence of a gillnet interaction occurred in the northern Gulf of Mexico. Gillnet fisheries may occur in Federal waters off of Florida and Texas, but resulting marine mammal mortalities may occur too far offshore to be reflected in the beach strandings.

Hawaii Swordfish, Tuna, Billfish, Mahi Mahi, Wahoo, Oceanic Sharks Longline/Set Line Fishery

NMFS proposes to elevate the Hawaii Swordfish, Tuna, Billfish, Mahi Mahi, Wahoo, Oceanic Sharks Longline/Set Line Fishery (Hawaii longline fishery) to Category II because of the diversity of marine mammal species that have been documented to interact with the fishery, including false killer whales (Hawaiian stock), Risso’s dolphin (Hawaiian stock), bottlenose dolphin (Hawaiian stock), spinner dolphin (Hawaiian stock), and short-finned pilot whales (Hawaiian stock). The draft 2000 Pacific SARs present data about these stocks of marine mammals and calculate a rate of interaction between the Hawaii longline fishery and each stock based on observer data. However, the abundance estimate and PBR for each stock is based on twelve aerial surveys conducted within approximately 25 nautical miles of the main Hawaiian Islands in 1993, 1995, and 1998, and therefore underestimates the abundance and PBR for each stock within the U.S. Exclusive Economic Zone (EEZ) off of Hawaii. NMFS also has records of an interaction between the Hawaii longline fishery and a sperm whale (Hawaiian stock) in 1999 and a humpback whale (Central North Pacific stock) in 1991. Regardless of the limitations of the abundance estimates and PBRs, observer data show that the Hawaii longline fishery has occasional interactions with marine mammals and should therefore be elevated to Category II. In addition, the recategorization of this fishery from Category III to Category II is consistent with the way NMFS has addressed other U.S. pelagic longline fisheries, all of which are Category I or II.

North Carolina Inshore Gillnet Fishery

NMFS proposes to elevate the North Carolina Inshore Gillnet Fishery to Category II. A Geographic Information System (GIS) analysis was performed on fisheries interaction data from bottlenose dolphin strandings in North Carolina to confirm locations as inside (inshore) or outside (coastal) of the COLREGS line currently used to distinguish between North Carolina’s inshore and coastal gillnet fisheries. The analysis revealed 12 fishery interaction-related strandings in inshore waters. The tier analysis justifying the elevation follows:

Tier 1 Evaluation: Incidental mortality and serious injury across all fisheries for bottlenose dolphins (WNA coastal stock) is greater than 10 percent of the PBR level (25). This fishery is thus subject to Tier 2 analysis.

Tier 2 Evaluation: Between 1993 and 1997, 12 bottlenose dolphins that died as a result of fishery interactions were recovered from inshore waters in North Carolina. Of these, eight carcasses bore evidence of possible gillnet interaction. Of the carcasses stranding inshore and displaying evidence of gillnet interactions, two were clearly attributable to gillnet interactions (i.e., visible monofilament net marks and/or gear present on the carcass). Counting only these latter two animals, there were 0.4 dead bottlenose dolphins with clear evidence of gillnet interactions recovered from inshore waters by the southeast U.S. stranding network on average per year. Additionally, although not included in the analysis, a live dolphin entangled in a gillnet in inshore waters was disentangled and released in September of 1997.

Given that an annual serious injury and mortality estimate related to the North Carolina Inshore Gillnet Fishery has not been calculated to date, the stranding data (0.4 bottlenose dolphins per year) was used as a minimum estimate of annual serious injury and mortality. Therefore, bottlenose dolphin (WNA coastal stock) mortality and serious injury from the North Carolina Inshore Gillnet Fishery is estimated to be between 1 percent and 50 percent of the PBR level (25), placing this fishery in Category II.

Other inshore gillnet fisheries in the Mid-Atlantic will be re-evaluated in a future LOF cycle for consistency with the changes proposed this year.

Southeast Atlantic Gillnet Fishery

NMFS proposes to include all southeast Atlantic gillnet fisheries (excluding the separate Category II Southeastern U.S. Atlantic Shark Gillnet Fishery) into one gillnet fishery complex named the Southeast Atlantic Gillnet Fishery for two reasons: (1) New information indicates a more extensive use of stab nets (i.e., sink gillnets) in the fishery for coastal migratory pelagics than was previously known, and (2) the Florida net ban has resulted in the redistribution of effort from state gillnet fisheries (e.g., for pompano, spot, croaker) into Federal waters. The Florida East Coast Pelagics King and Spanish Mackerel Gillnet Fisheries are included in this proposed new fishery. Gillnet fishing for shad in the southeast would also be included in this proposed fishery (see proposal for Gulf of Maine, Southeast U.S. Atlantic Coastal Shad, Sturgeon Gillnet Fishery). There are approximately 640 participants in this fishery: 279 participants gillnetting for various target species in the southeast Atlantic, and 361 participants from the Southeast shad component of the Gulf of Mexico, Southeast, U.S. Atlantic Coastal Shad, Sturgeon Gillnet Fishery. This number includes recreational fishermen who have a South Carolina commercial shad license. Presently, it is not possible to determine the number of recreational versus commercial fishers who have a commercial shad license. NMFS will revise the number of participants to exclude recreational fishermen in a future LOF cycle if the information necessary to do this becomes available.

Based on analogy with other gillnet fisheries, the ASRG recommendation that NMFS elevate all gillnet fisheries to at least Category II (unless evidence to the contrary is available), and a review of stranding records from 1994-1998, NMFS proposes to place this fishery in Category II. The marine mammal species and stock incidentally injured and killed is bottlenose dolphin (WNA coastal stock). The tier analysis justifying this change follows:

Tier 1 Evaluation: Incidental mortality and serious injury across all fisheries for bottlenose dolphin (WNA coastal stock) is greater than 10 percent of the PBR level (25). This fishery is thus subject to Tier 2 analysis.

Tier 2 Evaluation: Between 1994 and 1998, 44 bottlenose dolphins that died as a result of fishery interactions were recovered by stranding network members in South Carolina, Georgia, and the Atlantic coast of Florida. Of these, five carcasses (1 dolphin per year on average) bore evidence of a possible gillnet interaction (attached gillnet and net marks).

Given that an annual serious injury and mortality estimate related to the Southeast Atlantic Gillnet Fishery has not been calculated to date, the stranding data (one bottlenose dolphin per year) was used as a minimum estimate of annual serious injury and mortality. Therefore, bottlenose dolphin (WNA coastal stock) mortality and serious injury from the Southeast Atlantic Gillnet Fishery is estimated to be between 1 percent and 50 percent of the PBR level (25), placing this fishery in Category II. Fisheries Added to the LOF

Alaska Herring Spawn On Kelp Pound Net Fishery

NMFS proposes to add the Alaska Herring Spawn on Kelp Pound Net Fishery to the LOF as a Category III fishery. This fishery would include fisheries of Southeast Alaska and Prince William Sound. These fisheries were previously on the LOF as Category III fisheries, but they had become inactive and were removed in 1993. These fisheries have become active again.

Alaska Snail Pot Fishery

NMFS proposes to add the AK Snail Pot Fishery to the LOF as a Category III fishery. This small fishery targets three species of sea snails in the Bering Sea (typically north and west of the Pribilof Islands), using extremely small pots (less than 18 inches (45.7 cm) across). This is an extremely temporary and opportunistic fishery, typically occurring after the opilio crab fishery. Activity in the fishery is completely market driven, and while there were four permits fished in 1997, in 1998 there were no landings. According to Alaska Department of Fish and Game, it would not be impossible, but extremely unlikely for a marine mammal to get entangled in this gear. The fishery was observed for crab bycatch, and subsequently has been exempted from observer coverage since none was found. All other pot fisheries in AK are currently Category III fisheries.

California Longline Fishery

NMFS proposes to add the California Longline Fishery to the LOF as a Category II fishery. This fishery is directed primarily towards swordfish caught outside of the U.S. EEZ off of California. Longline vessels unloading their catch in California ports are required to fish outside of the U.S. EEZ and have a California state commercial fishing license. Currently, approximately 40 to 50 longline vessels unload in California. Traditionally, many of these vessels landed in Hawaii, but closures around the Hawaiian Islands have moved fishing effort farther east, and as a result some longline vessels now land in California. The California longline fishery is currently not covered by a fishery management plan (FMP), nor is it subject to any requirements to carry observers. However, the Pacific Fishery Management Council is in the process of developing a pelagic FMP that will include the California longline fishery. The FMP is expected to be finalized in 2002.

Preliminary catch data has been compiled for the California longline fishery from skipper logbooks, dated between August 1, 1995 and December 31, 1999. The logbooks do not report any whale or dolphin interactions, but do show interactions with California sea lions and a Hawaiian monk seal. However, because the California longline fishery does not operate in the same area that Hawaiian monk seals occur, NMFS believes the Hawaiian monk seal identification may be incorrect. Regardless, the gear and methods of fishing by the California longline fishery are similar to those of the Hawaiian longline fishery. Therefore, NMFS expects that the California Longline Fishery will occasionally interact with marine mammals. For this reason, this fishery is proposed to be added to the LOF as a Category II fishery. The categorization of this fishery in Category II is consistent with the way NMFS has addressed other U.S. pelagic longline fisheries, all of which are Category I or II.

Caribbean Gillnet Fishery

NMFS proposes to add the Caribbean Gillnet Fishery to the LOF as a Category III fishery. NMFS is currently examining this fishery, and will determine in a future LOF if a Category II designation is more appropriate. The marine mammal species and stocks incidentally injured and killed include dwarf sperm whales (WNA stock) and West Indian manatees (Antillean stock). During the last 10 years, the Caribbean stranding network has recorded a gillnet interaction with a dwarf sperm whale from the Western North Atlantic stock. During the last 20 years, West Indian manatees have interacted with gillnet gear in the Caribbean. There are 991 gillnet (including trammel net) fishers in Puerto Rico. The number of participants in the U.S. Virgin Islands is unknown.

Caribbean Mixed Species Trap/Pot Fishery

Mixed species trap/pot fisheries exist in the Caribbean but were omitted from past LOFs. NMFS proposes to add the Caribbean Mixed Species Trap/Pot Fishery to the LOF as a Category III fishery. There are 501 mixed species trap/pot fishers in Puerto Rico. The number of participants in the U.S. Virgin Islands is unknown. NMFS is presently evaluating this fishery to determine if any species and stocks of marine mammals are incidentally injured and killed.

Gulf of Mexico Haul/Beach Seine Fishery

The Gulf of Mexico Haul/Beach Seine Fishery was omitted from past LOFs. NMFS proposes to add this fishery to the LOF as a Category III fishery. NMFS believes the specific gear configuration used and operational practices employed (i.e short soak times) warrant a Category III designation for this fishery. At present, no marine mammal interactions are documented.

Gulf of Mexico Mixed Species Trap/Pot Fishery

Mixed species trap/pot fisheries exist in the Gulf of Mexico, but were omitted from past LOFs. NMFS proposes to add the Gulf of Mexico Mixed Species Trap/Pot Fishery to the LOF as a Category III fishery. NMFS is evaluating this fishery to determine if any species and stocks of marine mammals are incidentally injured and killed and to determine the number of participants in this fishery.

Gulf of Mexico Mixed Species Trawl Fishery

The Gulf of Mexico Mixed Species Trawl fishery was omitted from previous LOFs. NMFS proposes to add this fishery to the LOF as a Category III fishery. The Gulf of Mexico Mixed Species Trawl Fishery would incorporate trawl fisheries occurring in the southeast region that are not currently in the LOF, which include a periodic cannonball jellyfish trawl fishery on the west coast of Florida, and a mullet trawl fishery in the Gulf of Mexico. NMFS estimates that 20 fishers participate in this fishery.

Gulf of Mexico, Southeast Atlantic, Mid-Atlantic, and Caribbean Cast Net Fishery

NMFS proposes to add the Gulf of Mexico, Southeast Atlantic, Mid-Atlantic, and Caribbean Cast Net Fishery to the LOF as a Category III fishery. The southeast U.S. stranding network reported two manatees (West Indian, FL) entangled in cast nets, although it is unknown whether these nets were recreational or commercial. Until NMFS can further evaluate the gear types as well as the spatial and temporal distribution of the commercial fisheries NMFS cannot confirm manatee interactions with this fishery. NMFS is presently evaluating the number of participants in the commercial sector.

Mid-Atlantic Pound Net Fishery

NMFS proposes to add the Mid-Atlantic Pound Net Fishery to the LOF. Stranding data for 1993-1997 suggest that this fishery has occasional takes of coastal bottlenose dolphins. Stranding network members who have observed dolphin behavior around pound nets report that dolphins play and feed around pound nets and can become entangled in the leader part of the nets. The leader is a net that guides fish into the pound net.

Data from the Chesapeake Bay suggest that the likelihood of bottlenose dolphins entanglement in pound net leads may be affected by the mesh size of the lead net (Bellmund, et al., 1997), but the information is not conclusive. A study conducted by the NMFS Beaufort Lab from 1988 to 1999 observing pound nets to study sea turtles resulted in no observations of bottlenose dolphin entanglements in the small mesh leader fishery (stretch mesh leader/lines ≤8 inches (20.3 cm)).² On each observed set, leaders were examined from the water’s surface by boat. No bottlenose dolphin entanglements were observed. NMFS requests public comment on the issue of whether different mesh sizes used in pound net leads would result in differential bycatch rates of bottlenose dolphins or any other marine mammal stock.

² From 1988-1994, 34 pound net trips, with 10-20 sets per trip, were observed in northern and southern Core Sound and southeastern Pamlico Sound. During 1995-1997, pound net trips were observed for over 13 weeks from September to December, ranging from southern Core Sound to eastern Albemarle Sound in 1995, and from southern Core Sound to central Pamlico Sound in 1996 and 1997.

There were 1,084 observed sets in 1995 (10 percent of pound nets set were sampled each week as determined by weekly aerial surveys flown to quantify pound net effort), 1,084 in 1996 (20 percent of pound nets set were sampled each week), and 1,162 in 1997 (11 percent of pound nets set were sampled each week). During 1998 and 1999 approximately 156 pound net observations occurred from June-August in the northern Core Sound each year, with moderate effort during the fall of 1998 and light effort during the fall of 1999.

NMFS proposes to specify the northern boundary of the Mid-Atlantic Pound Net fishery based on bottlenose dolphin distribution and the southern boundary as the North Carolina/South Carolina border. NMFS will revisit this gear type and similar gear types (e.g., staked traps, weirs) in a future LOF. The names “staked traps” and “weirs” are used interchangeably with “pound nets” and are fished as far north as Maine. NMFS has not yet analyzed all data on marine mammal interactions or fishing effort for this fishery complex and are therefore not prepared to propose a comprehensive change at this time.

NMFS proposes to classify the Mid-Atlantic Pound Net Fishery as a Category II fishery. There are 438 participants in the Mid-Atlantic Pound Net Fishery. Marine mammal species and stocks incidentally injured and killed include bottlenose dolphin (WNA coastal stock). The tier analysis justifying this classification follows:

Tier 1 Evaluation: Stranding data for 1993-1997 documents interactions between the Western North Atlantic Coastal stock of bottlenose dolphin and the Mid-Atlantic Pound Net Fishery. According to data presented in the draft 2000 SAR for 1996-1998, annual serious injury and mortality across all fisheries for bottlenose dolphin (WNA coastal stock) exceeds 10 percent of the PBR level (25). Therefore, this fishery is subject to Tier 2 analysis.

Tier 2 Evaluation: Two bottlenose dolphin carcasses were found entangled in the leads of pound nets in Virginia during 1993-1997, for an average of 0.4 bottlenose dolphin strandings per year. A third record of an entangled bottlenose dolphin in Virginia in 1997 may have been applicable to this fishery. This entanglement involved a bottlenose dolphin carcass found near a pound net with twisted line marks consistent with the twine in the nearby pound net lead rather than with monofilament gillnet gear.

Given that other sources of annual serious injury and mortality estimates (e.g., observer data) related to the Mid-Atlantic Pound Net Fishery are not available, the stranding data (0.4 bottlenose dolphins per year) were used as a minimum estimate of annual serious injury and mortality. Therefore, bottlenose dolphin mortality and serious injury from the Mid-Atlantic Pound Net Fishery is estimated to be between 1 percent and 50 percent of the PBR level (25) for the Western North Atlantic Coastal stock of bottlenose dolphins, placing this fishery in Category II.

North Carolina Long Haul Seine Fishery

NMFS proposes to add the North Carolina Long Haul Seine Fishery to Category II and separate this fishery from the Mid-Atlantic Haul/Beach Seine Fishery (see Other Proposed Changes to the List of Fisheries section for a definition of this fishery). According to the North Carolina Division of Marine Fisheries gear description, this fishery is defined as a multi-filament seine pulled by two boats for a distance of up to several miles. Fish are encircled and concentrated by pulling the net around a fixed stake. There are currently 33 participants in the North Carolina Long Haul Seine Fishery.

The marine mammal stranding network has recorded interactions between multi-filament gear types and bottlenose dolphins (WNA coastal stock). For one of these interactions, long haul seines were specifically implicated as the probable source of interaction. In addition, a stranding network representative observed the live release of three bottlenose dolphins from a long haul seine. These observations support the decision to place this fishery in Category II until NMFS has more data with which to support another classification.

Northeast Drift Gillnet Fishery

NMFS proposes to add the Northeast Drift Gillnet Fishery to the LOF as a Category II fishery to ensure that drift gillnet fisheries for species other than large pelagics are included in the LOF. Based on analogy with other gillnet fisheries, the Atlantic SRG recommended that NMFS place gillnet fisheries in Category II (unless evidence to the contrary is available).

Currently there is no listing for this type of gear in the Northeast. For the purposes of the LOF, drift gillnet, or driftnet, gear is gillnet gear that is free-floating on both ends or is free-floating on one end and attached to the vessel on the other end. Driftnet gear is not anchored to the bottom. In addition, fishing with drift gillnet gear of mesh size smaller than those typically used to target large pelagic species has been recorded for several finfish species, and this fishing effort occurring in the Northeast is currently not represented on the LOF.

The proposed Northeast Drift Gillnet Fishery would include all fishing with drift gillnet gear, regardless of target species or depth of the water column. The geographic boundaries for the proposed Northeast Drift Gillnet Fishery would extend from the U.S./Canadian border south to 72°30' W. longitude, and continue south from the south shore of Long Island, New York. The Northeast Drift Gillnet Fishery would not include any sink gillnet fishing occurring in the areas listed as Category III inshore gillnet fisheries.

Northeast Trap/Pot Fishery

NMFS has documented entanglement of whales, pinnipeds, and small cetaceans in fixed gear, although the gear involved in whale entanglements often cannot be attributed to a specific fishery. However, both lobster pot gear and sink gillnet gear have been identified in whale entanglements. Whales primarily become entangled in the vertical components of the gear (e.g., buoy lines), although entanglement also occurs in the horizontal components of the gear (e.g., gillnet panels, lobster pot groundlines). Small cetaceans and pinnipeds become entangled in net panels of fixed gear, and occasionally in buoy lines (small cetaceans) and traps (pinnipeds). The Gulf of Maine/U.S. Mid-Atlantic Lobster Trap/Pot Fishery (proposed to be renamed the Northeast/Mid-Atlantic American Lobster Trap/Pot Fishery) was elevated to Category I in the 1997 LOF because of evidence of incidental take resulting in serious injury and mortality of right whales.

Several other fixed gear fisheries in the Northeast use gear components similar to those used in the Lobster and Blue Crab Trap/Pot fisheries and, therefore, may take marine mammals if fishing effort overlaps marine mammal distribution. The majority of records of entanglements in fixed gear cannot be attributed to a specific fishery; therefore, NMFS cannot conclude that entanglement of marine mammals in trap/pot fisheries other than lobster and blue crab trap/pot gear is not occurring.

Trap/pot gear is generally fished either as single pots with one buoy line or as strings of pots with one or more buoy lines. In a time/area used by marine mammals, there may be virtually no difference in the potential for buoy line entanglement between similar gear components in different fisheries. Groundlines, which are known to entangle whales, are used for multi-pot trawls in several trap/pot fisheries. Furthermore, several trap/pot fisheries have developed in the Northeast that are not represented on the current LOF, including the hagfish, red crab, stone crab, and jonah crab fisheries. The hagfish pot fishery sets strings of hagfish barrels in known high-use areas for whales. A finback whale was entangled in hagfish gear in 1997. Entanglements in red crab gear have not been recorded in U.S. waters, but the gear is fished in whale habitat, and entanglements of right and humpback whales in red crab gear have been recorded in Canadian waters in recent years.

These other trap/pot fisheries may occasionally result in serious injury and mortality to marine mammals. Therefore, NMFS proposes to reclassify these fisheries based on analogy with the lobster trap/pot fishery. However, NMFS does not believe that the rate of incidental serious injury/mortality in non-lobster trap/pot fisheries would be at the Category I level, specifically because there are far fewer participants than in the lobster fishery. Therefore, NMFS proposes to reclassify the other trap/pot fisheries as Category II.

NMFS proposes to name this fishery the Northeast Trap/Pot Fishery. The Northeast Trap/Pot Fishery would extend from the U.S./Canadian border down to the 72°30' W. line, and continue south from the south shore of Long Island, New York to a line extending due east from the Virginia/North Carolina border. The other trap/pot fisheries in the Mid-Atlantic will be re-evaluated in a future LOF cycle for consistency with the changes proposed this year.

Southeastern U.S. Atlantic, Gulf of Mexico Golden Crab Trap/Pot Fishery

The Southeastern U.S. Atlantic, Gulf of Mexico Golden Crab Trap/Pot Fishery was omitted from past LOFs. NMFS proposes to add this fishery to the LOF as a category III fishery. NMFS has no documentation of any marine mammal species and stocks incidentally injured and killed in this fishery. The gear rarely uses buoy lines to the surface, and therefore NMFS believes it is unlikely to result in entanglement. There are 10 participants in this fishery.

Southeastern U.S. Atlantic, Gulf of Mexico Stone Crab Trap/Pot Fishery

The Southeastern U.S. Atlantic, Gulf of Mexico Stone Crab Trap/Pot Fishery was omitted from past LOFs. NMFS proposes to add this fishery to the LOF as a category III fishery. The southeast U.S. stranding network has reported one bottlenose dolphin entangled in this fishery in 1998. Marine mammal species and stocks incidentally injured and killed in this fishery include bottlenose dolphin (Eastern Gulf of Mexico coastal stock). There are 4,453 participants in this fishery.

Fisheries Removed from the LOF

Atlantic Ocean, Caribbean, Gulf of Mexico Large Pelagics Drift Gillnet Fishery

NMFS proposes to remove this fishery from the LOF because NMFS regulations now prohibit this as a gear type for the swordfish and tuna component of this fishery. Any drift gillnet fisheries that do occur would be incorporated into the existing and proposed LOF gillnet listings.

Organizational Changes to the LOF

AK Clam Fishery

NMFS proposes to combine the AK Clam Hand Shovel and the AK Clam Mechanical/Hydraulic Fisheries into one AK Clam Fishery. The new fishery designation would include participants in the southeast AK Geoduck Dive Fishery, which are currently considered part of the AK Urchin and Other Fish/Shellfish Fishery. Since each of these fisheries is currently in Category III, NMFS proposes that the new AK Clam Fishery also be in Category III.

AK Southern Bering Sea, Aleutian Islands, and Western Gulf of Alaska Sablefish Longline/Set Line (Federally Regulated Waters)

NMFS proposes to change the names of several AK longline/set line fisheries to make the names of these fisheries in the LOF consistent with the way these fisheries are addressed in the SARs. NMFS proposes to split the AK Southern Bering Sea, Aleutian Islands, and Western Gulf of Alaska Sablefish Longline/Set Line (federally regulated waters) into the AK Bering Sea, Aleutian Islands Groundfish Longline/Set Line (federally regulated waters, including miscellaneous finfish and sablefish), the AK Gulf of Alaska Groundfish Longline/Set Line (federally regulated waters, including miscellaneous finfish and sablefish), and the AK State-Managed Waters, Groundfish Longline/Set Line (including sablefish, rockfish, and miscellaneous finfish) Fisheries. The AK State Waters Sablefish Longline/Set Line and AK Miscellaneous Finfish/Groundfish Longline/Set Line Fisheries would be incorporated appropriately into the three new fisheries. These changes would make the LOF directly comparable with the SARs and observer data for these longline fisheries.

Bluefish, Croaker, Flounder Trawl Fishery

NMFS proposes to combine the Bluefish, Croaker, Flounder Trawl Fishery into the Mid-Atlantic Mixed Species Trawl Fishery. The Bluefish, Croaker, Flounder Trawl Fishery may consist of at least two separate fisheries, and although bluefish, croaker, and flounder are often caught, they may not always be the target species. Therefore, placing this fishery into the broader Mid-Atlantic Mixed Species Trawl Fishery will ensure that this fishing activity is covered by the LOF. The 550 participants currently listed in the Bluefish, Croaker, Flounder Trawl Fishery may already be reflected in the number of participants for the Mid-Atlantic Mixed Species Trawl Fishery. NMFS will evaluate the number of participants in these fisheries and provide an update in future LOFs.

Caribbean Haul/Beach Seine Fishery

NMFS proposes to combine the Caribbean Haul Seine and Caribbean Beach Seine fisheries into one fishery called the Caribbean Haul/Beach Seine Fishery. Marine mammal species and stocks incidentally injured and killed include the West Indian manatee Antillean stock. The Florida stock of West Indian manatee was incorrectly listed as interacting with this fishery in past LOFs.

Gulf of Maine, Southeast U.S. Atlantic Coastal Shad, Sturgeon Gillnet Fishery

Sturgeon is now a prohibited species in both state and Federal waters. Therefore, NMFS proposes to remove this Category III fishery from the LOF to reflect these changes.

Gillnet fishing for shad in the Southeast is included in the proposed Category II Southeast Atlantic Gillnet Fishery. Gillnet fishing for shad in the Northeast is included in the Northeast Sink Gillnet Fishery, the Northeast Anchored Pelagic Gillnet Fishery, and/or the Northeast Drift Gillnet Fishery, depending on the type of gear used. Gillnet fishing for shad in the Mid-Atlantic (i.e., the 73o30' W line to the North Carolina/South Carolina border) is included in the U.S. Mid-Atlantic Coastal Gillnet Fishery (57 FR 20328, May 12, 1992).

Gulf of Maine, U.S. Mid-Atlantic Mixed Species Trap/Pot Fishery

NMFS proposes to separate the Gulf of Maine, U.S. Mid-Atlantic Mixed Species Trap/Pot Fisheries into two separate listings: the Northeast Trap/Pot Fishery and the Mid-Atlantic Mixed Species Trap/Pot Fishery. The marine mammal species and stocks incidentally injured and killed in the Mid-Atlantic Mixed Species Trap/Pot Fishery include the humpback whale (Gulf of Maine stock), minke whale (Canadian east coast stock), and harbor porpoise (Gulf of Maine/Bay of Fundy stock). Additional information on the Northeast Trap/Pot Fishery is described later in this preamble. NMFS is presently evaluating the Mid-Atlantic Mixed Species Trap/Pot Fishery to determine the target species and number of participants. NMFS will evaluate this fishery in a future LOF for consistency with the Northeast Trap/Pot Fishery.

Southeastern U.S. Atlantic, Gulf of Mexico, Caribbean Spiny Lobster Trap/Pot Fishery

NMFS proposes to divide the Southeastern U.S. Atlantic, Gulf of Mexico, Caribbean Spiny Lobster Trap/Pot Fishery into two separate fisheries: the Florida Spiny Lobster Trap/Pot Fishery and the Caribbean Spiny Lobster Trap/Pot Fishery.

Marine mammal species and stocks incidentally injured and killed in the Florida Spiny Lobster Fishery include the West Indian manatee (FL stock) and bottlenose dolphin (WNA coastal stock). This fishery occurs off of Florida in the Southeastern U.S. Atlantic and Gulf of Mexico. NMFS is currently evaluating the number of participants in the Florida spiny lobster fishery.

There are no known marine mammal species and stocks incidentally injured and killed as a result of the Caribbean Spiny Lobster Fishery. There are 197 participants in this fishery in Puerto Rico. The number of participants in the U.S. Virgin Islands is unknown.

Name Changes to Fisheries in the LOF

AK Octopus/Squid Pot Fishery

The LOF previously included a listing for the AK Octopus/Squid “Other” Fishery. Although this fishery originally included several gear types (dive gear, hand pick, mechanical jigging, and pot), only the pot fishery is currently active. As a result, NMFS proposes to change the name to the AK Octopus/Squid Pot Fishery and list this fishery with the other Category III pot fisheries.

AK Southeast Alaska Herring Food/Bait Pound Net Fishery

The name of the AK Southeast Alaska Herring Food/Bait Pound Net Fishery is changed to the AK Southeast Herring Roe/Food/Bait Pound Net Fishery.

Gulf of Maine Small Pelagics Surface Gillnet Fishery

NMFS proposes to change the name of the Category II Gulf of Maine Small Pelagics Surface Gillnet Fishery to the Northeast Anchored Pelagic Gillnet Fishery to include anchored pelagic gillnet effort in other parts of the Northeast and for species other than small pelagics in the LOF. The Northeast Anchored Pelagic Gillnet Fishery would include the use of gillnet gear of any size and for any target species that is anchored and fished in the upper two thirds of the water column. The geographic boundaries for the proposed Northeast Anchored Pelagic Gillnet Fishery would extend from the U.S./Canadian border to 72°30' W. longitude, and continue south from the south shore of Long Island, New York. The Northeast Anchored Pelagic Gillnet Fishery would not include any sink gillnet fishing occurring in the areas listed as Category III inshore gillnet fisheries.

Gulf of Maine/U.S. Mid-Atlantic Lobster Trap/Pot Fishery

NMFS proposes to change the name of this fishery from the Gulf of Maine/U.S. Mid-Atlantic Lobster Trap/Pot Fishery to the Northeast/Mid-Atlantic American Lobster Trap/Pot Fishery to reflect the distinction between the American Lobster Fishery and the Spiny Lobster Fishery. The new name is also intended to clarify that fishing in other areas of the Northeast, for example offshore areas that might not be considered part of the Gulf of Maine, are included in the LOF.

Mid-Atlantic Haul Seine Fishery

The name of the Mid-Atlantic Haul Seine fishery is changed to the Mid-Atlantic Haul/Beach Seine fishery for clarity. This fishery includes seines where one end is secured (e.g., swipe net, long seine) as well as seines that may be secured at both ends and hauled up on the beach.

Mid-Atlantic Mixed Species Stop/Seine/Weir Fishery

The U.S. Mid-Atlantic Mixed Species Stop/Seine/Weir Fishery is changed to the U.S. Mid-Atlantic Mixed Species Stop Seine/Weir Fishery to be consistent with the category title for this fishery.

Mid-Atlantic, Southeastern U.S. Atlantic, Gulf of Mexico Shrimp Trawl Fishery

The Mid-Atlantic component of the Mid-Atlantic, Southeastern U.S. Atlantic, Gulf of Mexico Shrimp Trawl Fishery is removed, and the name changed to the Southeastern U.S. Atlantic, Gulf of Mexico Shrimp Trawl Fishery. The new name reflects that this fishery operates from North Carolina into the Gulf of Mexico.

Southeast AK Salmon Drift Gillnet

The name of the Southeast AK Salmon Drift Gillnet Fishery is changed to the AK Southeast Salmon Drift Gillnet Fishery.

Southeastern U.S. Atlantic, Gulf of Mexico, and Caribbean Snapper-Grouper and Other Reef Fish Bottom Longline/Hook-and-Line Fishery

NMFS proposes to revise the name of the Southeastern U.S. Atlantic, Gulf of Mexico Snapper-Grouper and Other Reef Fish Bottom Longline/Hook-and-Line Fishery to include the Caribbean. There are 1,349 bottom longline/hook-and-line fishers in Puerto Rico. The number of participants in the U.S. Virgin Islands is unknown.

Southeastern U.S. Atlantic, Caribbean Haul Seine Fishery

The name of the Southeastern U.S. Atlantic, Caribbean Haul Seine Fishery is changed to the Southeastern U.S. Atlantic Haul/Beach Seine Fishery.

Other Proposed Changes or Clarifications to the LOF

Atlantic Ocean, Caribbean, Gulf of Mexico Large Pelagics Longline Fishery

The estimated number of participants in the Atlantic Ocean, Caribbean, Gulf of Mexico Large Pelagics Longline Fishery is updated to 443. This represents the number of permits issued, not active participants.

Calico Scallops Trawl Fishery

The estimated number of participants in the Calico Scallops Trawl Fishery is updated to 12.

Category II Haul Seine Fisheries

The name of the Haul Seine Fisheries title is changed to Haul/Beach Seine Fisheries for clarity.

Category III Haul Seine

The name of the Haul Seine Fisheries title under Category III is changed to Haul/Beach Seine Fisheries and the Beach Seine Fisheries title is removed for clarity. The Caribbean Beach Seine Fishery is changed to the Caribbean Haul/Beach Seine Fishery and included in the new category.

Mid-Atlantic Menhaden Purse Seine

The list of marine mammal species and stocks incidentally injured and killed in the Mid-Atlantic Menhaden Purse Seine Fishery is updated to reflect a fisher report of a humpback whale becoming entangled in the purse seine net, which was subsequently released alive.

Northeast Sink Gillnet Fishery

NMFS is not proposing to change the definition or categorization of this fishery, but provides the following explanation for clarification and comparison with fisheries for which changes are proposed. The Northeast Sink Gillnet Fishery is retained in Category I with the current geographic boundaries defining this fishery. The Northeast Sink Gillnet Fishery continues to include all fishing with sink gillnet gear, regardless of target species, from the U.S./Canadian border to 72°30' W. longitude, and continuing south from the south shore of Long Island, New York. To differentiate from other LOF gillnet listings, sink gillnet gear is considered to be anchored gillnet gear fished in the lower third of the water column. The Northeast Sink Gillnet Fishery would not include any sink gillnet fishing occurring in the areas listed as Category III inshore gillnet fisheries.

Southeastern U.S. Atlantic Shark Gillnet Fishery

The list of marine mammal species and stocks incidentally injured and killed in the Southeastern U.S. Atlantic Shark Gillnet Fishery is updated to reflect an Atlantic spotted dolphin that was reported incidentally taken and released alive.

Southeastern U.S. Stranding Data Review

The Southeast Fisheries Science Center is presently conducting a comprehensive review of all stranding records and if there are any changes in these estimates they will be listed in a subsequent LOF. At this time, the estimates of incidental mortality and serious injury presented in this proposed LOF are considered minimum.

References

Bellmund, S.A., Musick, J.A., Klinger, R.C., Byles, R.A., Keinath, J.A., and Barnard, D.E. 1997. Ecology of Sea Turtles in Virginia. Final Report to National Marine Fisheries Service Northeast Region. Contract number NA80FAC-00004. Virginia Institute of Marine Science, Gloucester Point, Virginia.

List of Fisheries

The following two tables list U.S. commercial fisheries according to their assigned categories under section 118 of the MMPA including proposed changes. The estimated number of vessels/participants is expressed in terms of the number of active participants in the fishery, when possible. If this information is not available, the estimated number of vessels or persons licensed for a particular fishery is provided. If no recent information is available on the number of participants in a fishery, the number from the 1996 LOF is used.

The tables also list the marine mammal species and stocks that are incidentally killed or injured in each fishery based on observer data, logbook data, stranding reports, and fishers’ reports. This list includes all species or stocks known to incur injury or mortality in a given fishery. However, not all species or stocks identified are necessarily independently responsible for a fishery’s categorization. There are a few fisheries that are in Category II that have no recently documented interactions with marine mammals. Justifications for placement of these fisheries are by analogy to other gear types that are known to injure or kill marine mammals, as discussed in the final LOF for 1996 (60 FR 45086, December 28, 1995).

Commercial fisheries in the Pacific Ocean (including Alaska) are included in Table 2; commercial fisheries in the Atlantic Ocean, Gulf of Mexico, and Caribbean are included in Table 3. An asterisk (*) indicates that the stock is a strategic stock; a plus (+) indicates that the stock is listed as threatened or endangered under the Endangered Species Act.

Table 2.—Proposed List of Fisheries Commercial Fisheries in the Pacific Ocean
Fishery Description | Estimated no. of vessels/persons | Marine mammal species and stocks incidentally killed/injured
Category I
GILLNET FISHERIES:
CA angel shark/halibut and other species large mesh (>3.5in) set gillnet | 58 | Harbor porpoise, central CA Common dolphin, short-beaked, CA/OR/WA Common dolphin, long-beaked CA California sea lion, U.S. Harbor seal, CA Northern elephant seal, CA breeding Sea otter, CA
CA/OR thresher shark/swordfish drift gillnet | 130 | Steller sea lion, Eastern U.S.*+ Sperm whale, CA/OR/WA*+ Dall's porpoise, CA/OR/WA Pacific white sided dolphin, CA/OR/WA Risso's dolphin, CA/OR/WA Bottlenose dolphin, CA/OR/WA offshore Short-beaked common dolphin CA/OR/WA Long-beaked common dolphin CA/OR/WA Northern right whale dolphin, CA/OR/WA Short-finned pilot whale, CA/OR/WA* Baird's beaked whale, CA/OR/WA Mesoplodont beaked whale, CA/OR/WA Cuvier's beaked whale, CA/OR/WA Pygmy sperm whale, CA/OR/WA California sea lion, U.S. Northern elephant seal, CA breeding Humpback whale, CA/OR/WA-Mexico* Minke whale, CA/OR/WA Striped dolphin, CA/OR/WA Killer whale, CA/OR/WA Pacific coast Northern fur seal, San Miguel Island
Category II
GILLNET FISHERIES:
AK Bristol Bay salmon drift gillnet | 1,903 | Steller sea lion, Western U.S.*+ Northern fur seal, Eastern Pacific* Harbor seal, Bering Sea Beluga whale, Bristol Bay Gray whale, Eastern north Pacific Spotted seal, AK Pacific white-sided dolphin, North Pacific
AK Bristol Bay salmon set gillnet | 1,014 | Harbor seal, Bering Sea Beluga whale, Bristol Bay Gray whale, Eastern North Pacific Northern fur seal, Eastern Pacific* Spotted seal, AK
AK Cook Inlet salmon drift gillnet | 576 | Steller sea lion, Western U.S.*+ Harbor seal, GOA Harbor porpoise, GOA Dall's porpoise, AK Beluga whale, Cook Inlet*+
AK Cook Inlet salmon set gillnet | 745 | Steller sea lion, Western U.S.*+ Harbor seal, GOA Harbor porpoise, GOA Dall’s porpoise, AK Beluga whale, Cook Inlet*+
AK Kodiak salmon set gillnet | 188 | Harbor seal, GOA Harbor porpoise, GOA Sea otter, AK
AK Metlakatla/Annette Island salmon drift gillnet | 60 | None documented
AK Peninsula/Aleutian Islands salmon drift gillnet | 164 | Northern fur seal, Eastern Pacific* Harbor seal, GOA Harbor porpoise, Bering Sea Dall's porpoise, AK
AK Peninsula/Aleutian Islands salmon set gillnet | 116 | Steller sea lion, Western U.S.*+ Harbor porpoise, Bering Sea
AK Prince William Sound salmon drift gillnet | 541 | Steller sea lion, Western U.S.*+ Northern fur seal, Eastern Pacific* Harbor seal, GOA Pacific white-sided dolphin, North Pacific Harbor porpoise, GOA Dall's porpoise, AK Sea Otter, AK
AK Southeast salmon drift gillnet | 481 | Steller sea lion, Eastern U.S.*+ Harbor seal, Southeast AK Pacific white-sided dolphin, North Pacific Harbor porpoise, Southeast AK Dall's porpoise, AK Humpback whale, central North Pacific*+
AK Yakutat salmon set gillnet | 170 | Harbor seal, Southeast AK Gray whale, Eastern North Pacific
WA Puget Sound Region salmon drift gillnet (includes all inland waters south of US-Canada border and eastward of the Bonilla-Tatoosh line treaty Indian fishing is excluded) | 725 | Harbor porpoise, inland WA Dall's porpoise, CA/OR/WA Harbor seal, WA inland
PURSE SEINE FISHERIES:
AK Southeast salmon purse seine | 416 | Humpback whale, central North Pacific*+
CA anchovy, mackerel, tuna purse seine | 150 | Bottlenose dolphin, CA/OR/WA offshore California sea lion, U.S. Harbor seal, CA
CA squid purse seine | 65 | Short-finned pilot whale, CA/OR/WA*
TRAWL FISHERIES:
AK miscellaneous finfish pair trawl | 2 | None documented
LONGLINE FISHERIES:
California longline | 45 | California sea lion
HI swordfish, tuna, billfish, mahi mahi, wahoo, oceanic sharks longline/set line | 140 | Humpback whale, Central North Pacific*+ False killer whales, HI Risso's dolphin, HI Bottlenose dolphin, HI Spinner dolphin, HI Short-finned pilot whale, HI Sperm whale, HI
OR swordfish floating longline | 2 | None documented
OR blue shark floating longline | 1 | None documented
Category III
GILLNET FISHERIES:
AK Kuskokwim, Yukon, Norton Sound, Kotzebue salmon gillnet | 1,922 | Harbor porpoise, Bering Sea
AK miscellaneous finfish set gillnet | 3 | Steller sea lion, Western U.S.*+
AK Prince William Sound salmon set gillnet | 30 | Steller sea lion, Western U.S.*+ Harbor seal, GOA
AK roe herring and food/bait herring gillnet | 2,034 | None documented
CA set and drift gillnet fisheries that use a stretched mesh size of 3.5 in or less | 341 | None documented
Hawaii gillnet | 115 | Bottlenose dolphin, HI Spinner dolphin, HI
WA Grays Harbor salmon drift gillnet (excluding treaty Tribal fishing) | 24 | Harbor seal, OR/WA coast
WA, OR herring, smelt, shad, sturgeon, bottom fish, mullet, perch, rockfish gillnet | 913 | None documented
WA, OR lower Columbia River (includes tributaries) drift gillnet | 110 | California sea lion, U.S. Harbor seal, OR/WA coast
WA Willapa Bay drift gillnet | 82 | Harbor seal, OR/WA coast Northern elephant seal, CA breeding
PURSE SEINE, BEACH SEINE, ROUND HAUL AND THROW NET FISHERIES:
AK Metlakatla salmon purse seine | 10 | None documented
AK miscellaneous finfish beach seine | 1 | None documented
AK miscellaneous finfish purse seine | 3 | None documented
AK octopus/squid purse seine | 2 | None documented
AK roe herring and food/bait herring beach seine | 8 | None documented
AK roe herring and food/bait herring purse seine | 624 | None documented
AK salmon beach seine | 34 | None documented
AK salmon purse seine (except Southeast Alaska, which is in Category II) | 953 | Harbor seal, GOA
CA herring purse seine | 100 | Bottlenose dolphin, CA coastal California sea lion, U.S. Harbor seal, CA
CA sardine purse seine | 120 | None documented
HI opelu/akule net | 16 | None documented
HI purse seine | 18 | None documented
HI throw net, cast net | 47 | None documented
WA (all species) beach seine or drag seine | 235 | None documented
WA, OR herring, smelt, squid purse seine or lampara | 130 | None documented
WA salmon purse seine | 440 | None documented
WA salmon reef net | 53 | None documented
DIP NET FISHERIES:
CA squid dip net | 115 | None documented
WA, OR smelt, herring dip net | 119 | None documented
MARINE AQUACULTURE FISHERIES:
CA salmon enhancement rearing pen | >1 | None documented
OR salmon ranch | 1 | None documented
WA, OR salmon net pens | 14 | California sea lion, U.S. Harbor seal, WA inland waters
TROLL FISHERIES
AK north Pacific halibut, AK bottom fish, WA, OR, CA albacore, groundfish, bottom fish, CA halibut non-salmonid troll fisheries | 1,530 (330 AK) | None documented
AK salmon troll | 2,335 | Steller sea lion, Western U.S.*+ Steller sea lion, Eastern U.S.*+
American Samoa tuna troll | <50 | None documented
CA/OR/WA salmon troll | 4,300 | None documented
Commonwealth of the Northern Mariana Islands tuna troll | 50 | None documented
Guam tuna troll | 50 | None documented
HI net unclassified | 106 | None documented
HI trolling, rod and reel | 1,795 | None documented
LONGLINE/SET LINE FISHERIES:
HI trolling, rod and reel
AK Bering Sea, Aleutian Islands groundfish longline/set line (federally regulated waters, including miscellaneous finfish and sablefish) | 115 | Northern elephant seal, CA breeding Killer whale, Eastern North Pacific resident Killer whale, transient Steller sea lion, Western U.S.*+ Pacific white-sided dolphin, North Pacific Dall’s porpoise, AK Harbor seal, Bering Sea
AK Gulf of Alaska groundfish longline/set line (federally regulated waters, including miscellaneous finfish and sablefish) | 867 | Steller sea lion, Western U.S.*+ Harbor seal, Southeast AK Northern elephant seal, CA breeding
AK halibut longline/set line (State and Federal waters) | 3,079 | Steller sea lion, Western U.S.*+
AK octopus/squid longline | 7 | None documented
AK state-managed waters groundfish longline/setline (including sablefish, rockfish, and miscellaneous finfish) | 731 | None documented
CA shark/bonito longline/set line | 10 | None documented
WA, OR, CA groundfish, bottomfish longline/set line | 367 | None documented
WA, OR North Pacific halibut longline/set line | 350 | None documented
TRAWL FISHERIES:
AK Bering Sea and Aleutian Islands Groundfish Trawl | 166 | Steller sea lion, Western U.S.*+ Northern fur seal, Eastern pacific* Killer whale, Eastern North Pacific resident Killer whale, Eastern North Pacific transient Pacific white sided dolphin, North Pacific Harbor porpoise, Bering Sea Harbor seal, Bering Sea Harbor seal, GOA Bearded seal, AK Ringed seal, AK Spotted seal, AK Dall’s porpoise, AK Ribbon seal, AK Northern elephant seal, CA breeding Sea otter, AK Pacific walrus, AK Humpback whale, Central North Pacific*+ Humpback whale, Western North Pacific*+
AK food/bait herring trawl | 3 | None documented
AK Gulf of Alaska groundfish trawl | 198 | Steller sea lion, Western U.S.*+ Northern fur seal, Eastern Pacific* Harbor seal, GOA Dall's porpoise, AK Northern elephant seal, CA breeding Fin whale, Northeast Pacific
AK miscellaneous finfish otter or beam trawl | 6 | None documented
AK shrimp otter trawl and beam trawl (statewide and Cook Inlet) | 58 | None documented
AK state-managed waters of Cook Inlet, Kachemak Bay, Prince William Sound, Southeast AK groundfish trawlWA, OR, CA groundfish trawl | 2 | None documented
WA, OR, CA groundfish trawl | 585 | Steller sea lion, Western U.S.*+ Northern fur seal, Eastern Pacific* Pacific white-sided dolphin, central North Pacific Dall's porpoise, CA/OR/WA California sea lion, U.S. Harbor seal, OR/WA coast
WA, OR, CA shrimp trawl | 300 | None documented
POT, RING NET, AND TRAP FISHERIES:
AK Bering Sea, Gulf of Alaska finfish pot | 257 | Harbor seal, GOA Harbor seal, Bering Sea Sea otter, AK
AK crustacean pot | 1,852 | Harbor porpoise, Southeast AK
AK octopus/squid pot | 72 | None documented
AK snail pot | 2 | None documented
CA lobster, prawn, shrimp, rock crab, fish pot | 608 | Sea otter, CA
OR, CA hagfish pot or trap | 25 | None documented
WA, OR, CA crab pot | 1,478 | None documented
WA, OR, CA sablefish pot | 176 | None documented
WA, OR shrimp pot & trap | 254 | None documented
HI crab trap | 22 | None documented
HI fish trap | 19 | None documented
HI lobster trap | 15 | Hawaiian monk seal*+
HI shrimp trap | 5 | None documented
HANDLINE AND JIG FISHERIES:
AK miscellaneous finfish handline and mechanical jig | 100 | None documented
AK North Pacific halibut handline and mechanical jig | 93 | None documented
AK octopus/squid handline | 2 | None documented
American Samoa bottomfish | <50 | None documented
Commonwealth of the Northern Mariana Islands bottomfish | <50 | None documented
Guam bottomfish | <50 | None documented
HI aku boat, pole and line | 54 | None documented
HI deep sea bottomfish | 434 | Hawaiian monk seal*+
Hi inshore handline | 650 | Bottlenose dolphin, HI
HI tuna | 144 | Rough-toothed dolphin, HI Bottlenose dolphin, HI Hawaiian monk seal*+
WA groundfish, bottomfish jig | 679 | None documented
HARPOON FISHERIES:
CA swordfish harpoon | 228 | None documented
POUND NET/WEIR FISHERIES:
AK herring spawn on kelp pound net | 452 | None documented
AK Southeast herring roe/food/bait pound net | 3 | None documented
WA herring brush weir | 1 | None documented
BAIT PENS:
WA/OR/CA bait pens | 13 | None documented
DREDGE FISHERIES:
Coastwide scallop dredge | 108 (12 AK) | None documented
DIVE, HAND/MECHANICAL COLLECTION FISHERIES:
AK abalone | 1 | None documented
AK clam | 156 | None documented
WA herring spawn on kelp | 4 | None documented
AK dungeness crab | 3 | None documented
AK herring spawn on kelp | 363 | None documented
AK urchin and other fish/shellfish | 471 | None documented
CA abalone | 111 | None documented
CA sea urchin | 583 | None documented
HI coral diving | 2 | None documented
HI fish pond | 10 | None documented
HI handpick | 135 | None documented
HI lobster diving | 6 | None documented
HI squiding, spear | 267 | None documented
WA, CA kelp | 4 | None documented
WA/OR sea urchin, other clam, octopus, oyster, sea cucumber, scallop, ghost shrimp hand, dive, or mechanical collection | 637 | None documented
WA shellfish aquaculture | 684 | None documented
COMMERCIAL PASSENGER FISHING VESSEL (CHARTER BOAT) FISHERIES:
AK, WA, OR, CA commercial passenger fishing vessel | >7,000 (1,107 AK) | None documented
HI “other” | 114 | None documented
LIVE FINFISH/SHELLFISH FISHERIES:
CA finfish and shellfish live trap/hook-and-line | 93 | None documented
* Marine mammal stock is strategic or is proposed to be listed as strategic in the draft SARs for 2000.
+ stock is listed as threatened or endangered under the Endangered Species Act (ESA) or as depleted under the MMPA. List of Abbreviations Used in Table 2: AK, Alaska; GOA; CA , California; HI, Hawaii Gulf of Alaska; OR, Oregon, and WA, Washington

Table 3.—Proposed List of Fisheries Commercial Fisheries in the Atlantic Ocean, Gulf of Mexico, and Caribbean
Fishery Description | Estimated # of vessels/persons | Marine mammal species and stocks incidentally injured and killed
Category I
GILLNET FISHERIES:
Northeast sink gillnet | 341 | North Atlantic right whale, WNA*+ Humpback whale, WNA*+ Minke whale, Canadian east coast Killer whale, WNA White-sided dolphin, WNA* Bottlenose dolphin, WNA offshore Harbor porpoise, GME/BF* Harbor seal, WNA Gray seal, WNA Common dolphin, WNA * Fin whale, WNA *+ Spotted dolphin, WNA False killer whale, WNA Harp seal, WNA
U.S. Mid-Atlantic coastal gillnet | >655 | Humpback whale, WNA*+ Minke whale, Canadian east coast Bottlenose dolphin, WNA offshore Bottlenose dolphin, WNA coastal*+ Harbor porpoise, GME/BF* Harbor seal, WNA Harp seal, WNA Long-finned pilot whale, WNA* Short-finned pilot whale, WNA* White sided dolphin, WNA Common dolphin, WNA
LONGLINE FISHERIES:
Atlantic Ocean, Caribbean, Gulf of Mexico large pelagics longline | <200 | Humpback whale, WNA*+ Minke whale, Canadian east coast Risso's dolphin, WNA Long-finned pilot whale, WNA* Short-finned pilot whale, WNA* Common dolphin, WNA* Atlantic spotted dolphin, WNA* Pantropical spotted dolphin, WNA* Striped dolphin, WNA Bottlenose dolphin, WNA offshore Bottlenose dolphin, GMX Outer Continental Shelf Bottlenose dolphin, GMX Continental Shelf Edge and Slope Atlantic spotted dolphin, Northern GMX Pantropical spotted dolphin, Northern GMX Risso's dolphin, Northern GMX Harbor porpoise, GME/BF*
TRAP/POT FISHERIES:
Northeast/Mid-Atlantic American lobster trap/pot | 13,000 | North Atlantic right whale, WNA*+ Humpback whale, WNA*+ Fin whale, WNA*+ Minke whale, Canadian east coast Harbor seal, WNA
TRAWL FISHERIES:
Atlantic squid, mackerel, butterfish trawl | 620 | Common dolphin, WNA* Risso's dolphin, WNA Long-finned pilot whale, WNA* Short-finned pilot whale, WNA* White-sided dolphin, WNA*
Category II
GILLNET FISHERIES:
Gulf of Mexico gillnet | 724 | Bottlenose dolphin, Western GMX coastal Bottlenose dolphin, Northern GMX coastal Bottlenose dolphin, Eastern GMX coastal Bottlenose dolphin, GMX Bay, Sound, and Estuarine*
North Carolina inshore gillnet | 94 | Bottlenose dolphin, WNA coastal*+
Northeast anchored pelagic gillnet | 133 | Humpback whale, WNA*+ White-sided dolphin, WNA* Harbor seal, WNA
Northeast drift gillnet | unknown | None documented
Southeast Atlantic gillnet | 640 | Bottlenose dolphin, WNA coastal
Southeastern U.S. Atlantic shark gillnet | 12 | Bottlenose dolphin, WNA coastal* North Atlantic right whale, WNA*+ Atlantic spotted dolphin, WNA
TRAWL FISHERIES:
Atlantic herring midwater trawl (including pair trawl) | 17 | Harbor seal, WNA
TRAP/POT FISHERIES:
Atlantic blue crab trap/pot | >16,000 | Bottlenose dolphin, WNA coastal* West Indian manatee, FL
Gulf of Mexico blue crab trap/pot | 4,113 | Bottlenose dolphin, Western GMX coastal Bottlenose dolphin, Northern GMX coastal Bottlenose dolphin, Eastern GMX coastal Bottlenose dolphin, GMX Bay, Sound, & Estuarine* West Indian manatee, FL*+
Northeast trap/pot | unknown | Fin whale, WNA
PURSE SEINE FISHERIES:
Gulf of Mexico menhaden purse seine | 50 | Bottlenose dolphin, Western GMX coastal Bottlenose dolphin, Northern GMX coastal
HAUL/BEACH SEINE FISHERIES:
Mid-Atlantic haul/beach seine | 25 | Bottlenose dolphin, WNA coastal* Harbor porpoise, GME/BF*
North Carolina long haul seine | 33 | Bottlenose dolphin, WNA coastal*
STOP NET FISHERIES:
North Carolina roe mullet stop net | 13 | Bottlenose dolphin, WNA coastal*
POUND NET FISHERIES:
Mid-Atlantic pound net | 438 | Bottlenose dolphin, WNA coastal*
Category III
GILLNET FISHERIES:
Caribbean gillnet | >991 | Dwarf sperm whale, WNA West Indian manatee, Antillean
Chesapeake Bay inshore gillnet | 45 | Harbor porpoise, GME/BF
Delaware Bay inshore gillnet | 60 | Humpback whale, WNA*+ Bottlenose dolphin, WNA coastal*+ Harbor porpoise, GME/BF*
Long Island Sound inshore gillnet | 20 | Humpback whale, WNA*+ Bottlenose dolphin, WNA coastal*+ Harbor porpoise, GME/BF*
Rhode Island, southern Massachusetts (to Monomoy Island), and New York Bight (Raritan and Lower New York Bays) inshore gillnet | 32 | Humpback whale, WNA*+ Bottlenose dolphin, WNA coastal*+ Harbor porpoise, GME/BF*
TRAWL FISHERIES:
Calico scallops trawl | 12 | None documented
Crab trawl | 400 | None documented
Georgia, South Carolina, Maryland whelk trawl | 25 | None documented
Gulf of Maine, Mid-Atlantic sea scallop trawl | 215 | None documented
Gulf of Maine northern shrimp trawl | 320 | None documented
Gulf of Mexico butterfish trawl | 2 | Atlantic spotted dolphin, Eastern GMX Pantropical spotted dolphin, Eastern GMX
Gulf of Mexico mixed species trawl | 20 | None documented
Mid-Atlantic mixed species trawl | >1,000 | None documented
North Atlantic bottom trawl | 1,052 | Long-finned pilot whale, WNA* Short-finned pilot whale, WNA* Common dolphin, WNA* White-sided dolphin, WNA* Striped dolphin, WNA Bottlenose dolphin, WNA offshore
Southeastern U.S. Atlantic, Gulf of Mexico shrimp trawl | >18,000 | Bottlenose dolphin, WNA coastal*+
U.S. Atlantic monkfish trawl | unknown | Common dolphin, WNA*
MARINE AQUACULTURE FISHERIES:
Finfish aquaculture | 48 | Harbor seal, WNA
Shellfish aquaculture | unknown | None documented
PURSE SEINE FISHERIES:
Gulf of Maine Atlantic herring purse seine | 30 | Harbor porpoise, GME/BF* Harbor seal, WNA Gray seal, WNA
Gulf of Maine menhaden purse seine | 50 | None documented
Florida west coast sardine purse seine | 10 | Bottlenose dolphin, Eastern GMX coastal
Mid-Atlantic menhaden purse seine | 22 | Bottlenose dolphin, WNA coastal*+ Humpback whale, WNA*+
U.S. Atlantic tuna purse seine | unknown | None documented
U.S. Mid-Atlantic hand seine | >250 | None documented
LONGLINE/HOOK-AND-LINE FISHERIES:
Gulf of Maine tub trawl groundfish bottom longline/ hook-and-line | 46 | Harbor seal, WNA Gray seal, Northwest North Atlantic Humpback whale, WNA
Gulf of Maine, U.S. Mid-Atlantic tuna, shark swordfish hook-and-line/harpoon | 26,223 | Humpback whale, WNA
Southeastern U.S. Atlantic, Gulf of Mexico, and Caribbean snapper-grouper and other reef fish bottom longline/hook-and-line | >5,000 | None documented
Southeastern U.S. Atlantic, Gulf of Mexico shark bottom longline/hook-and-line | 124 | None documented
Southeastern U.S. Atlantic, Gulf of Mexico, U.S. Mid-Atlantic pelagic hook-and-line/harpoon | 1,446 | None documented
TRAP/POT FISHERIES
Caribbean mixed species trap/pot | >501 | None documented
Caribbean spiny lobster trap/pot | >197 | None documented
Florida spiny lobster trap/pot | unknown | West Indian manatee, FL*+ Bottlenose dolphin, WNA coastal*+
Gulf of Mexico mixed species trap/pot | unknown | None documented
Mid-Atlantic mixed species trap/pot | unknown | Humpback whale, Gulf of Maine Minke whale, Canadian east coast Harbor porpoise, GM/BF
Southeastern U.S. Atlantic, Gulf of Mexico golden crab trap/pot | 10 | None documented
Southeastern U.S. Atlantic, Gulf of Mexico stone crab trap/pot | 4,453 | Bottlenose dolphin, Eastern Gulf of Mexico coastal
U.S. Mid-Atlantic eel trap/pot | >700 | None documented
U.S. Mid-Atlantic and Southeast U.S. Atlantic black sea bass trap/pot | 30 | None documented
STOP SEINE/WEIR/POUND NET FISHERIES:
Gulf of Maine herring and Atlantic mackerel stop seine/weir | 50 | North Atlantic right whale, WNA* Humpback whale, WNA*+ Minke whale, Canadian east coast Harbor porpoise, GME/BF* Harbor seal, WNA Gray seal, Northwest North Atlantic
U.S. Mid-Atlantic crab stop seine/weir | 2,600 | None documented
U.S. Mid-Atlantic mixed species stop seine/weir (except the North Carolina roe mullet stop net) | 500 | None documented
DREDGE FISHERIES:
Gulf of Maine mussel | >50 | None documented
Gulf of Maine, U.S. Mid-Atlantic sea scallop dredge | 233 | None documented
U.S. Mid-Atlantic/Gulf of Mexico oyster | 7,000 | None documented
U.S. Mid-Atlantic offshore surf clam and quahog dredge | 100 | None documented
HAUL/BEACH SEINE FISHERIES:
Caribbean haul/beach seine | 15 | West Indian manatee, Antillean
Gulf of Mexico haul/beach seine | unknown | None documented
Southeastern U.S. Atlantic, haul/beach seine | 25 | None documented
DIVE, HAND/MECHANICAL COLLECTION FISHERIES:
Atlantic Ocean, Gulf of Mexico, Caribbean shellfish dive, hand/mechanical collection | 20,000 | None documented
Gulf of Maine urchin dive, hand/mechanical collection | >50 | None documented
Gulf of Mexico, Southeast Atlantic, Mid-Atlantic, and Caribbean cast net | unknown | None documented
COMMERCIAL PASSENGER FISHING VESSEL (CHARTER BOAT) FISHERIES:
Atlantic Ocean, Gulf of Mexico, Caribbean commercial passenger fishing vessel | 4,000 | None documented
* Marine mammal stock is strategic or is proposed to be listed as strategic in the draft SARs for 2000.
+ Stock is listed as threatened or endangered under the ESA or as depleted under the MMPA. List of Abbreviations Used in Table 3 FL - Florida NC - North Carolina GA - Georgia SC - South Carolina GME/BF - Gulf of Maine/Bay of Fundy TX - Texas GMX - Gulf of Mexico WNA - Western North Atlantic

Classification

The Chief Counsel for Regulation of the Department of Commerce certified to the Chief Counsel for Advocacy of the Small Business Administration that this proposed LOF for 2001, if adopted, would not have a significant economic impact on a substantial number of small entities for the following reasons.

Under existing regulations, all fishers participating in Category I or II fisheries, must register, obtain an Authorization Certificate, and pay a fee of $25. The Authorization Certificate authorizes the taking of marine mammals incidental to commercial fishing operations. NMFS has estimated that approximately 22,400 fishing vessels operate in Category I or II fisheries, and, therefore, are required to register. However, the registration for the majority of these fishers has been integrated with existing state or Federal registration programs, and those fishers do not need to register separately under the MMPA. Currently, approximately 3,800 fishers register directly with NMFS under the MMPA authorization program.

This proposed rule would require the registration of approximately 22,219³ additional fishers. Fisheries that are proposed to be elevated to Category II and whose participants would be required to register with NMFS include the Hawaii Swordfish, Tuna, Billfish, Mahi Mahi Wahoo, Oceanic Sharks, Longline/Set Line Fishery (140 participants), the North Carolina Inshore Gillnet Fishery (94 participants), the Gulf of Mexico Gillnet Fishery (724 participants), the Southeast Atlantic Gillnet Fishery (640 participants), the Atlantic Blue Crab Fishery (>16,000), and the Gulf of Mexico Blue Crab Fishery (4,113 participants). The California Longline Fishery (45 participants), the Mid-Atlantic Pound Net Fishery (438 participants), the Northeast Trap/Pot Fishery (unknown number of participants), the North Carolina Long Haul Seine Fishery (33 participants) and the Northeast Drift Gillnet Fishery (unknown number of participants) are new fisheries that have been proposed to be added to the LOF this year as Category II fisheries.

³This number includes 16,000 fishers who have historically participated in the Atlantic Blue Crab Fishery. NMFS is currently evaluating the current number of participants and will provide that information in a future LOF cycle.

Participants in fisheries elevated to Category II or added to the LOF may already participate in Category I or II fisheries for which they currently register under the MMPA or participate in Federal or State fisheries with integrated registration programs, and therefore would not be required to register separately under the MMPA or pay the $25 registration fee.

The $25 registration fee, with respect to anticipated revenues, is not considered significant. NMFS will also consider integrating registration requirements with other fisheries to minimize the registration burden on fishers. NMFS would waive the registration fee for fisheries where an integrated registration program can be arranged.

As a result of the certification, a regulatory flexibility analysis was not prepared.

Notwithstanding any other provision of law, no person is required to respond to nor shall a person be subject to a penalty for failure to comply with a collection of information subject to the requirements of the Paperwork Reduction Act unless that collection of information displays a currently valid Office of Management and Budget (OMB) control number. This proposed rule does not contain new collection-of-information requirements subject to the Paperwork Reduction Act; however, the proposed addition of fisheries to Category II in the LOF could result in up to 22,219 fishers being subject to an existing collection-of-information requirement. However, NMFS expects that most of these fishers will not be required to do any additional reporting. For example, this number includes 16,000 fishers who have historically participated in the Atlantic Blue Crab Trap/Pot Fishery and 4,113 fishers who have historically participated in the Gulf of Mexico Blue Crab Trap/Pot Fishery. NMFS is currently evaluating the current number of participants in these two fisheries and is planning to integrate registration with existing state or Federal registration programs as soon as possible. Also, many of the fishers may already participate in other Category I or II fisheries or participate in Federal or state fisheries with integrated registration programs and would not be required to register separately under the MMPA.

The collection of information for the registration of fishers under the MMPA has been approved by the OMB under OMB control number 0648-0293 (0.25 burden hours per report for new registrants and 0.15 burden hours for renewals). These estimates include the time for reviewing instructions, searching existing data sources, gathering and maintaining the data needed, and completing and reviewing the collection of information. Send comments regarding these reporting burden estimates or any other aspect of the collections of information, including suggestions for reducing burdens to NMFS and OMB (see ADDRESSES).

This proposed rule has been determined to be not significant for purposes of E.O. 12866.

An environmental assessment was prepared under the National Environmental Policy Act (NEPA) for regulations to implement section 118 of the MMPA (1995 EA). The 1995 EA concluded that implementation of those regulations would not have a significant impact on the human environment. This proposed rule, if implemented, would not make any significant change in the management of reclassified fisheries, and therefore this proposed rule is not expected to change the analysis or conclusion of the 1995 EA. The classification of fisheries on the LOF is not considered to be a management action. If NMFS takes a management action, for example, through the development of a Take Reduction Plan (TRP), NMFS would prepare an environmental document as required under NEPA specific for that action.

Changes to the proposed LOF for 2001 will not affect species listed as threatened or endangered under the Endangered Species Act (ESA) or their associated critical habitat. The impacts of numerous fisheries have been analyzed in various biological opinions and this proposed rule will not affect the conclusions of those opinions. The classification of fisheries on the LOF is not considered to be a management action that would impact threatened or endangered species. If NMFS takes a management action, for example, through the development of a Take Reduction Plan (TRP), NMFS would conduct consultation under section 7 of the ESA specific for that action.

This proposed rule will have no adverse impacts on marine mammals and may have a positive impact on marine mammals by improving knowledge of marine mammals and the fisheries interacting with marine mammals through information collected from observer programs or take reduction teams.

This proposed rule will not affect the land or water uses or natural resources of the coastal zone, as specified under section 307 of the Coastal Zone Management Act.

The President has directed Federal agencies to use plain language in their communications with the public, including regulations. To comply with this directive, we seek public comment on any ambiguity or unnecessary complexity arising from the language used in this rule. Such comments should be sent to the Office of Protected Resources (see ADDRESSES).

Dated: January 12, 2001.
William T. Hogarth,
Deputy Assistant Administrator for Fisheries, National Marine Fisheries Service.

[FR Doc. 01-1542 Filed 1-19-01; 8:45 am]

BILLING CODE 3510-22-S